DEPARTMENT OF HEALTH AND HUMAN SERVICES

Centers for Medicare & Medicaid Services

[Document Identifier: CMS-684A-I and CMS-10169]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: End-Stage Renal Disease (ESRD) Network Business Proposal Forms and Supporting Regulations in 42 CFR 405.2110 and 42 CFR 405.2112; Use: Section 1881(c) of the Social Security Act establishes ESRD Network contracts. The regulations designated at 42 CFR 405.2110 and 405.2112 designated 18 End Stage Renal Disease (ESRD) Networks which are funded by renewable contracts. These contracts are on 3-year cycles. To better administer the program, CMS requires the contractors to submit a standardized business proposal package of forms so that cost proposing and pricing among the ESRD Networks will be uniform and easily tracked by CMS. Form Number: CMS-684A-I (OMB#: 0938-0658); Frequency: Reporting—Other, every three years; Affected Public: Not-for-profit institutions; Number of Respondents: 18; Total Annual Responses: 36; Total Annual Hours: 1,080.

2. Type of Information Collection Request: New collection; Title of Information Collection: Request for Bids (RFB) for Durable Medical Equipment, Prosthetics, Orthotics, and Supplies (DMEPOS) Competitive Bidding Program; Use: The Centers for Medicare and Medicaid Services (CMS) will conduct competitive bidding programs in which certain suppliers will be awarded contracts to provide certain DMEPOS items to Medicare beneficiaries. Competitive bidding provides a way to harness marketplace dynamics to create incentives for suppliers to provide quality items and services in an efficient manner and at a reasonable cost. The objectives of competitive bidding include:

(1) To implement competitive bidding programs for certain covered items of DMEPOS and associated services in select areas;

(2) to assure beneficiary access to quality DMEPOS as a result of the program;

(3) to reduce the amount Medicare pays for DMEPOS and create a payment structure under competitive bidding that is more reflective of a competitive market;

(4) to limit the financial burden on beneficiaries by reducing their out-of-pocket expenses for DMEPOS they obtain through the program; and,

(5) to contract with suppliers who conduct business in a manner that is beneficial for the program and Medicare beneficiaries.

Contract suppliers will be selected from the suppliers that have the lowest bids and that meet all relevant program requirements. Suppliers bidding above the winning price are to be excluded from the Medicare market; however, multiple winners must be awarded in each site. The forms associated with this collection of information will collect all of the relevant information needed for processing bids.

Following the publication of the 60-day Federal Register notice (71 FR 26546), we received a considerable number of public comments. Commenters discussed a variety of topics, ranging from the general requirements of the forms to the availability of instructions for completing the forms. After reviewing the comments, we revised the information collection request (ICR) to clarify the issues raised by the public. In addition, instructions for completing the forms are complete and available for public viewing. Form Number: CMS-10169 (OMB#: 0938-NEW); Frequency: Reporting—Every three years; Affected Public: Business or other for-profit, Not-for-profit institutions, and the Federal government; Number of Respondents: 23,973; Total Annual Responses: 23,973; Total Annual Hours: 1,088,164.

To obtain copies of the supporting statement and any related forms for the proposed paperwork collections referenced above, access CMS Web Site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: December 7, 2006.
Michelle Shortt,
Director, Regulations Development Group, Office of Strategic Operations and Regulatory Affairs.

[FR Doc. E6-21436 Filed 12-14-06; 8:45 am]

BILLING CODE 4120-01-P